ENVIRONMENTAL PROTECTION AGENCY

[EPA-HQ-OPPT-2010-0990; FRL-8857-3]

Approval of Test Marketing Exemptions for Certain New Chemicals

AGENCY: Environmental Protection Agency (EPA).

ACTION: Notice.

SUMMARY: This notice announces EPA's approval of applications for test marketing exemptions (TMEs) under section 5(h)(1) of the Toxic Substances Control Act (TSCA) and 40 CFR 720.38. EPA has designated these applications as TME-09-03; TME-09-06; TME-09-07; TME-09-12; TME-10-01; TME-10-06; TME-10-08; TME-10-09. The test marketing conditions are described in the TME applications and in this notice.

DATES: Approval of these TMEs is effective December 7, 2010.

FOR FURTHER INFORMATION CONTACT: For technical information contact: Adella Underdown, Chemical Control Division (7405M), Office of Pollution Prevention and Toxics, Environmental Protection Agency, 1200 Pennsylvania Ave., NW., Washington, DC 20460-0001; telephone number: (202) 564-9364; fax number: (202) 564-9490; e-mail address: underdown.adella@epa.gov.

For general information contact: The TSCA-Hotline, ABVI-Goodwill, 422 South Clinton Ave., Rochester, NY 14620; telephone number: (202) 554-1404; e-mail address: TSCA-Hotline@epa.gov.

SUPPLEMENTARY INFORMATION:

I. General Information

A. Does this action apply to me?

This action is directed in particular to the chemical manufacturer and/or importer who submitted the TME applications to EPA. This action may, however, be of interest to the public in general. Since other entities may also be interested, the Agency has not attempted to describe all the specific entities that may be affected by this action. If you have any questions regarding the applicability of this action to a particular entity, consult the technical person listed under FOR FURTHER INFORMATION CONTACT.

B. How can I get copies of this document and other related information?

EPA has established a docket for this action under docket ID number EPA-HQ-OPPT-2010-0990. All documents in the docket are listed in the docket index at http://www.regulations.gov. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

II. What is the agency's authority for taking this action?

Section 5(h)(1) of TSCA and 40 CFR 720.38 authorizes EPA to exempt persons from premanufacture notification (PMN) requirements and permit them to manufacture or import new chemical substances for test marketing purposes, if the Agency finds that the manufacture, processing, distribution in commerce, use, and disposal of the substances for test marketing purposes will not present an unreasonable risk of injury to health or the environment. EPA may impose restrictions on test marketing activities and may modify or revoke a test marketing exemption upon receipt of new information which casts significant doubt on its finding that the test marketing activity will not present an unreasonable risk of injury.

III. What action is the agency taking?

EPA has approved the TMEs listed in this notice. EPA has determined that test marketing these new chemical substances, under the conditions set out in each TME application and in this notice, will not present any unreasonable risk of injury to human health or the environment.

IV. What restrictions apply to these TMEs?

The test market time period, production volume, number of customers, and use must not exceed specifications in the applications and this notice. All other conditions and restrictions described in the applications and in this notice must also be met.

TME-09-0003.

Date of Receipt: January 27, 2009.

Notice of Receipt: April 13, 2009 (74 FR 16857) (FRL-8406-5).

Applicant: Cytec Industries, Inc.

Chemical: Phenol, polymer with formaldehyde, Bu ether.

Use: (G) Coatings resin.

Production Volume: CBI.

Number of Customers: CBI.

Test Marketing Period: CBI.

TME-09-0006.

Date of Receipt: March 16, 2009.

Notice of Receipt: April 17, 2009 FR (74 FR 17856) (FRL-8408-8).

Applicant: Cytec Industries, Inc.

Chemical: (G) Polymeric substituted carbomonocycle polymer with alkylthiol, substituted carbomonocycles, and alkyl acrylate-blocked.

Use: (G) Coatings resin.

Production Volume: CBI.

Number of Customers: CBI.

Test Marketing Period: CBI.

TME-09-0007.

Date of Receipt: March 16, 2009.

Notice of Receipt: April 17, 2009 (74 FR 17856) (FRL-8408-8).

Applicant: Cytec Industries, Inc.

Chemical: (G) Aromatic epoxy diacrylate, polymer with diisocyanate, alkylthiol and substituted carbomonocycles.

Use: (G) Coatings resin.

Production Volume: CBI.

Number of Customers: CBI.

Test Marketing Period: CBI.

TME-09-0012.

Date of Receipt: May 29, 2009.

Notice of Receipt: July 16, 2009 (74 FR 34568) (FRL-8427-8).

Applicant: Cytec Industries, Inc.

Chemical: (G) Epoxidized fatty acid, polymer with organic acids and alcohols compd. with amine alcohol.

Use: (G) Polyester binding resin.

Production Volume: CBI.

Number of Customers: CBI.

Test Marketing Period: CBI.

TME-10-0001.

Date of Receipt: October 28, 2009.

Notice of Receipt: March 10, 2010 (75 FR 11404) (FRL-8814-1).

Applicant: PPG Industries, Inc.

Chemical: (G) Aromatic polyurethane.

Use: (G) Component of a coating.

Production Volume: CBI.

Number of Customers: CBI.

Test Marketing Period: CBI.

TME-10-0006.

Date of Receipt: August 17, 2010.

Notice of Receipt: September 22, 2010 (75 FR 57770) (FRL-8847-7).

Applicant: Cytec Industries, Inc.

Chemical: (G) Alkanoic acid ester, polymers with alkanolamine and substituted acrylate-blocked substituted polyalkylene-urethane polymer.

Use: (G) Coatings resin.

Production Volume: CBI.

Number of Customers: CBI.

Test Marketing Period: CBI.

TME-10-0008.

Date of Receipt: September 14, 2010.

Notice of Receipt: September 30, 2010 (75 FR 60447) (FRL-8849-5).

Applicant: Cytec Industries, Inc.

Chemical: (G) Maleated fatty oil, substituted alkanoic acid ester, ester with polyethylene glycol, compds. with alkyl alkanol amine.

Use: (G) Wood stain.

Production Volume: CBI.

Number of Customers: CBI.

Test Marketing Period: CBI days, commencing on first day of commercial manufacture.

TME-10-0009.

Date of Receipt: September 28, 2010.

Notice of Receipt: November 24, 2010 (75 FR 71688) (FRL-8852-1).

Applicant: Cytec Industries, Inc.

Chemical: (G) Fatty acids, polymers with substituted carbopolycycle, substituted alkylamines, substituted alkyleneoxide and glycidyl alkaonate, substituted alkanoic acid salts.

Use: (G) Coating resin.

Production Volume: CBI.

Number of Customers: CBI.

Test Marketing Period: CBI days, commencing on first day of commercial manufacture.

The following additional restrictions apply to these TMEs. A bill of lading accompanying each shipment must state that the use of the substance is restricted to that approved in the TME. In addition, the applicant shall maintain the following records until 5 years after the date they are created, and shall make them available for inspection or copying in accordance with section 11 of TSCA:

1. Records of the quantity of the TME substance produced and the date of manufacture.

2. Records of dates of the shipments to each customer and the quantities supplied in each shipment.

3. Copies of the bill of lading that accompanies each shipment of the TME substance.

V. What was EPA's risk assessment for these TMEs?

EPA identified no significant human health or environmental risks for these test market substances, due to either the low toxicity of each substance or low expected exposure. Therefore, the test market activities will not present any unreasonable risk of injury to human health or the environment. Many of these TMEs were submitted per the TSCA New Chemicals Sustainable Futures Voluntary Pilot Project which is designed to develop low risk chemicals; see the Federal Register of December 11, 2002 (67 FR 76282) (FRL-7198-6).

VI. Can EPA change its decision on these TMEs in the future?

Yes. The Agency reserves the right to rescind approval or modify the conditions and restrictions of an exemption should any new information that comes to its attention cast significant doubt on its finding that the test marketing activities will not present any unreasonable risk of injury to human health or the environment.

List of Subjects

Environmental protection, Test marketing exemptions.

Dated: December 7, 2010.
Greg Schweer,
Chief, New Chemicals Prenotice Branch, Office of Pollution Prevention and Toxics.

[FR Doc. 2010-31215 Filed 12-10-10; 8:45 am]

BILLING CODE 6560-50-P